DEPARTMENT OF ENERGY

Federal Energy Regulatory Commission

Combined Notice of Filings #2

Take notice that the Commission received the following electric rate filings:

Docket Numbers: ER11-3013-006; ER10-2870-007; ER10-2865-007.

Applicants: Coolidge Power LLC, TransCanada Power Marketing Ltd, TransCanada Energy Sales Ltd.

Description: Updated Market Power Analysis for the Southwest Region of the TransCanada Entities, et al.

Filed Date: 6/28/16.

Accession Number: 20160628-5188.

Comments Due: 5 p.m. ET 7/19/16.

Docket Numbers: ER16-833-002.

Applicants: Midcontinent Independent System Operator, Inc.

Description: Compliance filing: 2016-06-28 90 day PRA Compliance Filing to be effective 9/1/2016.

Filed Date: 6/28/16.

Accession Number: 20160628-5144.

Comments Due: 5 p.m. ET 7/19/16.

Docket Numbers: ER16-1462-001.

Applicants: Palmco Power DE LLC.

Description: Asset Appendix to June 27, 2016 Palmco Power DE LLC tariff filing.

Filed Date: 6/24/16.

Accession Number: 20160624-5267.

Comments Due: 5 p.m. ET 7/18/16.

Docket Numbers: ER16-1464-001.

Applicants: Palmco Power ME, LLC.

Description: Asset Appendix to June 27, 2016 Palmco Power ME, LLC tariff filing.

Filed Date: 6/27/16.

Accession Number: 20160627-5334.

Comments Due: 5 p.m. ET 7/18/16.

Docket Numbers: ER16-1465-001.

Applicants: Palmco Power MI LLC.

Description: Asset Appendix to June 27, 2016 Palmco Power MI LLC tariff filing.

Filed Date: 6/24/16.

Accession Number: 20160624-5268.

Comments Due: 5 p.m. ET 7/18/16.

Docket Numbers: ER16-1466-001.

Applicants: Palmco Power NH LLC.

Description: Asset Appendix B for Palmco Power NH LLC.

Filed Date: 6/27/16.

Accession Number: 20160627-5329.

Comments Due: 5 p.m. ET 7/18/16.

Docket Numbers: ER16-1467-001.

Applicants: Palmco Power VA LLC.

Description: Asset Appendix to June 27, 2016 Palmco Power VA LLC tariff filing.

Filed Date: 6/27/16.

Accession Number: 20160627-5331.

Comments Due: 5 p.m. ET 7/18/16.

Docket Numbers: ER16-1468-001.

Applicants: Palmco Power RI LLC.

Description: Asset Appendix to June 27, 2016 Palmco Power RI LLC tariff filing.

Filed Date: 6/27/16.

Accession Number: 20160627-5332.

Comments Due: 5 p.m. ET 7/18/16.

Docket Numbers: ER16-1635-001.

Applicants: Arizona Public Service Company.

Description: Tariff Amendment: Rate Schedule No. 281 to be effective 7/6/2016.

Filed Date: 6/28/16.

Accession Number: 20160628-5197.

Comments Due: 5 p.m. ET 7/19/16.

Docket Numbers: ER16-2039-000.

Applicants: Midcontinent Independent System Operator, Inc.

Description: § 205(d) Rate Filing: 2016-06-28_SA 2924 Prairie Wind Energy-MidAmerican FCA (J344) to be effective 6/29/2016.

Filed Date: 6/28/16.

Accession Number: 20160628-5110.

Comments Due: 5 p.m. ET 7/19/16.

Docket Numbers: ER16-2040-000.

Applicants: Southwest Power Pool, Inc.

Description: § 205(d) Rate Filing: 1883R5 Westar Energy, Inc. NITSA and NOA (Alma) to be effective 9/1/2016.

Filed Date: 6/28/16.

Accession Number: 20160628-5119.

Comments Due: 5 p.m. ET 7/19/16.

Docket Numbers: ER16-2041-000.

Applicants: Southwest Power Pool, Inc.

Description: § 205(d) Rate Filing: 1886R5 Westar Energy, Inc. NITSA and NOA (Doniphan) to be effective 9/1/2016.

Filed Date: 6/28/16.

Accession Number: 20160628-5122.

Comments Due: 5 p.m. ET 7/19/16.

Docket Numbers: ER16-2042-000.

Applicants: Southwest Power Pool, Inc.

Description: § 205(d) Rate Filing: 1887R5 Westar Energy, Inc. NITSA and NOA (Elsmore) to be effective 9/1/2016.

Filed Date: 6/28/16.

Accession Number: 20160628-5123.

Comments Due: 5 p.m. ET 7/19/16.

Docket Numbers: ER16-2043-000.

Applicants: Southwest Power Pool, Inc.

Description: § 205(d) Rate Filing: 3207 WAPA-UGP and Montana-Dakota Utilities Att AO to be effective 6/1/2016.

Filed Date: 6/28/16.

Accession Number: 20160628-5128.

Comments Due: 5 p.m. ET 7/19/16.

Docket Numbers: ER16-2044-000.

Applicants: Elk Hills Power, LLC.

Description: Market-Based Triennial Review Filing: EHP Market Based Rate Triennial Review to be effective 6/29/2016.

Filed Date: 6/28/16.

Accession Number: 20160628-5170.

Comments Due: 5 p.m. ET 7/19/16.

Docket Numbers: ER16-2045-000.

Applicants: Southwest Power Pool, Inc.

Description: § 205(d) Rate Filing: 1884R5 Westar Energy, Inc. NITSA and NOA (Blue Mound) to be effective 9/1/2016.

Filed Date: 6/28/16.

Accession Number: 20160628-5174.

Comments Due: 5 p.m. ET 7/19/16.

Docket Numbers: ER16-2046-000.

Applicants: Alta Wind VIII, LLC.

Description: § 205(d) Rate Filing: Market-Based Rate Notice of Change in Status to be effective 6/29/2016.

Filed Date: 6/28/16.

Accession Number: 20160628-5196.

Comments Due: 5 p.m. ET 7/19/16.

Docket Numbers: ER16-2047-000.

Applicants: Midcontinent Independent System Operator, Inc.

Description: § 205(d) Rate Filing: 2016-06-28_SA 2778 MidAmerican-MidAmerican LGIA (R38) to be effective 6/29/2016.

Filed Date: 6/28/16.

Accession Number: 20160628-5213.

Comments Due: 5 p.m. ET 7/19/16.

Take notice that the Commission received the following public utility holding company filings:

Docket Numbers: PH16-8-000.

Applicants: Starwood Energy Group Global, L.L.C.

Description: Starwood Energy Group Global, L.L.C. submits FERC 65-B Material Change in Facts of Waiver Notification.

Filed Date: 6/27/16.

Accession Number: 20160627-5326.

Comments Due: 5 p.m. ET 7/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2016.
Nathaniel J. Davis, Sr.,
Deputy Secretary.

[FR Doc. 2016-15873 Filed 7-5-16; 8:45 am]

BILLING CODE 6717-01-P